NUCLEAR REGULATORY COMMISSION

10 CFR Part 61

[NRC-2011-0012]

RIN 3150-AI92

Low-Level Radioactive Waste Disposal

AGENCY: Nuclear Regulatory Commission.

ACTION: Regulatory analysis; reopening of comment period.

SUMMARY: On October 17, 2017, the U.S. Nuclear Regulatory Commission (NRC) requested public comment on the draft regulatory analysis, “Draft Regulatory Analysis for Final Rule: Low-Level Radioactive Waste Disposal.” The public comment period closed on November 16, 2017. The NRC has decided to extend the public comment period until December 18, 2017, to allow more time for members of the public to develop and submit their comments.

DATES: The comment period for the Federal Register document published on October 17, 2017 (82 FR 48283), is reopened and now closes on December 18, 2017. Comments received after this date will be considered, if it is practical to do so, but the Commission is able to ensure consideration only for comments received on or before this date.

ADDRESSES: You may submit comments by any of the following methods:

• Federal Rulemaking Web site: Go to http://www.regulations.gov and search for Docket ID NRC-2011-0012. Address questions about NRC dockets to Carol Gallagher; telephone: 301-415-3463; email: Carol.Gallagher@nrc.gov. For technical questions contact the individual listed in the FOR FURTHER INFORMATION CONTACT section of this document.

• Email comments to: Rulemaking.Comments@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff.

• Hand deliver comments to: 11555 Rockville Pike, Rockville, Maryland 20852, between 7:30 a.m. and 4:15 p.m. (Eastern Time) Federal workdays; telephone: 301-415-1677.

For additional direction on obtaining information and submitting comments, see “Obtaining Information and Submitting Comments” in the SUPPLEMENTARY INFORMATION section of this document.

FOR FURTHER INFORMATION CONTACT: Gregory R. Trussell, Office of Nuclear Material Safety and Safeguards, U.S. Nuclear Regulatory Commission, Washington, DC 20555-0001; telephone: 301-415-6445, email: Gregory.Trussell@nrc.gov.

SUPPLEMENTARY INFORMATION:

I. Obtaining Information and Submitting Comments

A. Obtaining Information

Please refer to Docket ID NRC-2011-0012 when contacting the NRC about the availability of information for this action. You may obtain publicly-available information related to this action by any of the following methods:

• Federal Rulemaking Web site: Go to http://www.regulations.gov and search for Docket ID NRC-2011-0012.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2011-0012 in your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

On October 17, 2017 (82 FR 48283), the NRC requested public comment on the draft regulatory analysis, “Draft Regulatory Analysis for Final Rule: Low-Level Radioactive Waste Disposal.” The purpose of the draft regulatory analysis is to support development of the new supplemental proposed rule as directed by the Commission in the staff requirements memorandum to SECY-16-0106 (ADAMS Accession No. ML17251B147), dated September 8, 2017. The NRC staff is seeking comment on how to improve the approach/methodology and actual cost data currently used in the draft final rule regulatory analysis (ADAMS Accession No. ML16189A050) to provide more accurate cost and benefit data in the final regulatory analysis.

The NRC received several requests from public stakeholders to extend the comment period for the draft regulatory analysis. Public stakeholders noted in their requests that more time is needed to allow for the gathering of actual cost data. The comment period is being reopened and now closes on December 18, 2017.

Dated at Rockville, Maryland, this 17th day of November, 2017.
For the Nuclear Regulatory Commission.
Patricia Holahan,
Director, Division of Rulemaking, Office of Nuclear Material Safety and Safeguards.

[FR Doc. 2017-25341 Filed 11-22-17; 8:45 am]

BILLING CODE 7590-01-P